ENVIRONMENTAL PROTECTION AGENCY

[FRL-8253-1]

Proposed Ability-to-Pay Settlement Under Section 122(h) of the Comprehensive Environmental Response, Compensation and Liability Act Regarding The Pittsburgh Metal and Equipment Superfund Site, Hudson County, NJ

AGENCY: Environmental Protection Agency.

ACTION: Notice of proposed Ability to Pay settlement and opportunity for public comment.

SUMMARY: The United States Environmental Protection (“EPA”) is proposing to enter into an administrative settlement to resolve claims under the Comprehensive Environmental Response, Compensation and Liability Act of 1980, as amended (“CERCLA”). In accordance with Section 122(h)(1) of CERCLA, notice is hereby given of a proposed administrative settlement concerning the Pittsburgh Metal and Equipment Superfund Site (“the Site”). Section 122(h) of CERCLA provides EPA with the authority to consider, compromise and settle certain claims for costs incurred by the United States. Notice is being published to inform the public of the proposed settlement and of the opportunity to comment.

The Site is a former smelting facility that operated for approximately thirty-five years. It received used metal and dross from a number of clients, including those in the printing industries. EPA confirmed contamination at the Site as high as 15% lead in the top two feet of soil. Other hazardous substances at the site include cadmium, antimony, beryllium, copper, nickel, silver, zinc, and PCBs.

As a result of the release or threatened release of hazardous substances, EPA has undertaken response actions at or in connection with the Site under Section 104 of CERCLA, 42 U.S.C. 9604.

Under the terms of the Agreement, the Settling Parties will pay a total of approximately $59,500.00 to reimburse EPA for certain response costs incurred at the Site. In exchange, EPA will grant a covenant not to sue or take administrative action against the Parties for reimbursement of past response costs pursuant to Section 107(a) of CERCLA. The Attorney General has approved this settlement.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th floor, New York, New York 10007-1866. Telephone: (212) 637-3111.

DATES: Comments must be provided by January 8, 2007.

ADDRESSES: Comments should be sent to the U.S. Environmental Protection Agency, Office of Regional Counsel, 290 Broadway—17th Floor, New York, NY 10007 and should refer to: In the Matter of the Pittsburgh Metal and Equipment Superfund Site, U.S. EPA Index No. CERCLA-02-2006-2009.

FOR FURTHER INFORMATION CONTACT: U.S. Environmental Protection Agency, Office of Regional Counsel, 290 Broadway—17th Floor, New York, NY 10007, (212) 637-3137.

SUPPLEMENTARY INFORMATION: A copy of the proposed administrative settlement, as well as background information relating to the settlement, may be obtained in person or by mail from Patricia Hick, U.S. Environmental Protection Agency, Office of Regional Counsel, 290 Broadway—17th Floor, New York, NY 10007. Telephone: (212) 637-3137.

Dated: November 13, 2006.
George Pavlou,
Director Emergency and Remedial Response Division Region 2.

[FR Doc. E6-20896 Filed 12-7-06; 8:45 am]

BILLING CODE 6560-50-P